ENVIRONMENTAL PROTECTION AGENCY

40 CFR Part 180

[OPP-301137; FRL-6787-3]

RIN 2070-AB78

Atrazine, Bensulide, Carbofuran, Diphenamid, Fumaric acid, Imazalil, 6-Methyl-1,3-dithiolo[4,5-b]quinoxalin-2-one, Phosphamidon, S-Propyl dipropylthiocarbamate, and Trimethacarb; Proposed Revocation of Tolerances

AGENCY: Environmental Protection Agency (EPA).

ACTION: Proposed rule.

SUMMARY: This document proposes to revoke specific tolerances for residues of the insecticides carbofuran, phosphamidon, and trimethacarb; the herbicides atrazine, S-(O,O-diisopropyl phosphorodithioate) ester of N-(2-mercaptoethyl)benzenesulfonamide, known as bensulide, S-propyl dipropylthiocarbamate, known as vernolate, and diphenamid; the fungicides fumaric acid and imazalil; and the fungicide/insecticide 6-methyl-1,3-dithiolo[4,5-b]quinoxalin-2-one (oxythioquinox). EPA expects to determine whether any individuals or groups want to support these tolerances. The regulatory actions proposed in this document are part of the Agency's reregistration program under the Federal Insecticide, Fungicide, and Rodenticide Act (FIFRA), and the tolerance reassessment requirements of the Federal Food, Drug, and Cosmetic Act (FFDCA). By law, EPA is required to reassess 66% of the tolerances in existence on August 2, 1996, by August 2002, or about 6,400 tolerances. The regulatory actions proposed in this document pertain to the proposed revocation of 81 tolerances and/or exemptions, but since one exemption for fumaric acid was previously reassessed, 80 would be counted among tolerance/exemption reassessments made toward the August, 2002 review deadline of FFDCA section 408(q), as amended by the Food Quality Protection Act (FQPA) of 1996.

DATES: Comments, identified by docket control number OPP-301137, must be received on or before October 1, 2001.

ADDRESSES: Comments may be submitted by mail, electronically, or in person. Please follow the detailed instructions for each method as provided in Unit I. of the SUPPLEMENTARY INFORMATION. To ensure proper receipt by EPA, it is imperative that you identify docket control number OPP-301137 in the subject line on the first page of your response.

FOR FURTHER INFORMATION CONTACT: By mail: Joseph Nevola, Special Review and Reregistration Division (7508C), Office of Pesticide Programs, Environmental Protection Agency, 1200 Pennsylvania Ave, NW., Washington, DC 20460; telephone number: (703) 308-8037; e-mail address: nevola.joseph@epa.gov.

SUPPLEMENTARY INFORMATION:

I. General Information

A. Does this Action Apply to Me?

You may be affected by this action if you are an agricultural producer, food manufacturer, or pesticide manufacturer. Potentially affected categories and entities may include, but are not limited to:

Categories | NAICS | Examples of Potentially Affected Entities
Industry | 111 | Crop production
| 112 | Animal production
| 311 | Food manufacturing
| 32532 | Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. To access the OPPTS Harmonized Guidelines referenced in this document, go directly to the guidelines at http://www.epa.gov/opptsfrs/home/guidelin.htm. A frequently updated electronic version of 40 CFR part 180 is available at http://www.access.gpo.gov/nara/cfr/cfrhtml_180/Title_40/40cfr180_00.html, a beta site currently under development.

2. In person. The Agency has established an official record for this action under docket control number OPP-301137. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall#2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-301137 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described in this unit. Do not submit any information electronically that you consider to be CBI. Electronic comments must be submitted as an ASCII file avoiding use of special characters and any form of encryption. Comments and data will also be accepted on standard disks in WordPerfect 6.1/8.0 or ASCII file format. All comments in electronic form must be identified by docket control number OPP-301137. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the proposed rule or collection activity.

7. Make sure to submit your comments by the deadline in this document.

8. To ensure proper receipt by EPA, be sure to identify the docket control number assigned to this action in the subject line on the first page of your response. You may also provide the name, date, and Federal Register citation.

F. What Can I do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f) if needed. The order would specify data needed and the time frames for its submission, and would require that within 90 days some person or persons notify EPA that they will submit the data. If the data are not submitted as required in the order, EPA will take appropriate action under FIFRA or FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke specific tolerances and/or exemptions for residues of the insecticides carbofuran, phosphamidon, and trimethacarb; the herbicides atrazine, bensulide, diphenamid, and vernolate; the fungicides fumaric acid and imazalil; and the fungicide/insecticide oxythioquinox in or on commodities listed in the regulatory text because these pesticides are not registered under FIFRA for uses on those commodities or because use of the pesticide is otherwise prohibited. The registrations for these pesticide chemicals, except for carbofuran, were canceled because the registrant failed to pay the required maintenance fee or the registrant voluntarily canceled one or more registered uses of the pesticide. It is EPA's general practice to propose revocation of those tolerances for residues of pesticide active ingredients on crop uses for which there are no active registrations under FIFRA, unless any person in comments on the proposal indicates a need for the tolerance to cover residues in or on imported commodities or domestic commodities legally treated.

1. Atrazine. The Agency is proposing to revoke and remove the tolerances in 40 CFR 180.220(a)(2) for use of atrazine and its metabolites on grass, range; orchardgrass; and orchardgrass, hay because atrazine is no longer registered for these uses. EPA had proposed these tolerance revocations previously on February 5, 1998 in the Federal Register (63 FR 5907) (FRL-5743-9). However, in response to a comment from the Washington State Department of Agriculture that active registrations for atrazine use on grass existed, EPA did not revoke the tolerances in 40 CFR 180.220(a)(2) for use of atrazine on grass, range; orchardgrass; and orchardgrass, hay; as published in the Federal Register (63 FR 57067, October 26, 1998) (FRL-6035-6). However, subsequent communications from Drexel Chemical Company and Novartis Crop Protection, Inc. (now called Syngenta Crop Protection, Inc.) confirmed that no active registrations exist and that the tolerances should be revoked. Also, in 40 CFR 180.220, EPA is proposing to remove the “(N)” designation from all remaining entries to conform to current Agency administrative practice (“N” designation means negligible residues).

2. Bensulide. EPA is proposing to revoke the tolerance for residues of the herbicide S-(O,O-Diisopropyl phosphorodithioate) ester of N-(2-mercaptoethyl) benzenesulfonamide, known as bensulide, and its oxygen analog in or on cottonseed by revising 40 CFR 180.241 because bensulide is not registered under FIFRA for use on cotton. On September 30, 1994, a 6(f)(1) notice of receipt of the voluntary use deletion request by the registrant was published in the Federal Register (59 FR 34065) (FRL-4912-1). EPA believes that existing stocks have been used and treated commodity has passed through the channels of trade.

3. Carbofuran. EPA is proposing to revise tolerances for residues of the insecticide carbofuran and its metabolites in or on rice and rice, straw in 40 CFR 180.254 by adding an expiration/revocation date of August 31, 2002 to allow treated commodities to pass through the channels of trade.

In 1991, EPA and FMC Corporation, the registrant of carbofuran, reached a settlement agreement to phase out the use of granular carbofuran (trade name Furadan) on rice by 1994 because of its acute toxicity to birds. However, due to the unavailability of effective substitutes in 1994 and subsequent years, and in order to allow a reasonable transition period, that phase out was extended until August, 1998 for most states. In 1999, EPA notified FMC Corporation that the Agency would not authorize any further production of granular carbofuran for rice in the 1999 season and beyond. Existing 24(c) registrations and labels concerning Arkansas, California, Louisiana, Missouri, Mississippi, and Texas were to prohibit distribution, sale, and use of existing stocks of granular carbofuran on rice after August 31, 1999. However, due to unique transition issues in California, rice growers in California were permitted to use existing stocks of carbofuran on rice until August, 2000. Based on discussions with the California Rice Commission, EPA believes that rice commodities in California treated with carbofuran until August, 2000 will have passed through the channels of trade by August, 2002. There are now two registered alternatives and EPA has not granted further extensions to the phase out of granular carbofuran for use on rice. Therefore, after the effective date of the final rule adopting these changes and once the expiration/revocation date of these tolerances has been reached, these tolerances will no longer be effective.

4. Diphenamid. Diphenamid has not had active registrations under FIFRA since 1991. EPA believes that existing stocks have been used and treated commodities have passed through the channels of trade. EPA is proposing to revoke the tolerances in 40 CFR 180.230 for residues of the herbicide diphenamid and its metabolite in or on apples; cattle, fat; cattle, mbyp; cattle, meat; cotton forage; cottonseed; fruiting vegetables; goats, fat; goats, mbyp; goats, meat; hogs, fat; hogs, mbyp; hogs, meat; horses, fat; horses, mbyp; horses, meat; milk; okra; peaches; peanut forage; peanut hay; peanuts; potatoes; sheep, fat; sheep, mbyp; sheep, meat; raspberries; soybean forage; soybean hay; soybeans; strawberries; and sweet potatoes. Therefore, the Agency is proposing to remove §180.230 in its entirety.

5. Fumaric acid. Fumaric acid has not had active registrations under FIFRA since 1989. EPA believes that existing stocks have been used and treated commodities have passed through the channels of trade. EPA is proposing to revoke the exemptions in 40 CFR 180.2(a) for residues of the fungicide fumaric acid on raw agricultural commodities and on animal products and in §180.1001(d) for residues of fumaric acid-isophthalic acid-styrene-ethylene/propylene glycol copolymer (minimum average molecular weight (in amu) 1 x 10¹⁸) on raw agricultural commodities because active registrations do not exist.

6. Imazalil. EPA is proposing to revoke and remove the tolerance in 40 CFR 180.413(a)(1) for the combined residues of the fungicide imazalil and its metabolite in or on cottonseed because imazalil is not registered under FIFRA for use on cotton.

7. 6-Methyl-1,3-dithiolo[4,5-b]quinoxalin-2-one. Because 6-Methyl-1,3-dithiolo[4,5-b]quinoxalin-2-one has no registered uses under FIFRA, EPA is proposing to revise the tolerances in 40 CFR 180.338 for residues of the fungicide/insecticide 6-Methyl-1,3-dithiolo[4,5-b]quinoxalin-2-one in or on apples; apricots; cattle, fat; cattle, mbyp; cattle, meat; citrus fruits; goats, fat; goats, mbyp; goats, meat; hogs, fat; hogs, mbyp; hogs, meat; horses, fat; horses, mbyp; horses, meat; macadamia nuts; milk; pears; sheep, fat; sheep, mbyp; sheep, meat; and walnuts. In the Federal Register of March 17, 1999, EPA announced receipt of a request for voluntary cancellation of oxythioquinox, 6-Methyl-1,3-dithiolo[4,5-b]quinoxalin-2-one or chinomethionate (64 FR 13191) (FRL-6067-8). The Agency permitted distribution and sale for 18 months after the effective date of cancellation on October 27, 1999 and end users were permitted an additional year for use of existing stocks.

Therefore, EPA is proposing to revise §180.338 in its entirety to add an expiration/revocation date of August 1, 2002, to allow any treated commodities to pass through the channels of trade. After the effective date of the final rule adopting these changes and once the expiration/revocation date of these tolerances has been reached, these tolerances will no longer be effective. Also, in 40 CFR 180.338, EPA is proposing to remove the “(N)” designation from all entries to conform to current Agency administrative practice (“N” designation means negligible residues). In addition, because the tolerances with a revocation date will continue to appear in future issues of Title 40, commodity terminology changes are proposed to change “apples” to “apple,” “apricots” to “apricot,” “cattle, mbyp” to “cattle, meat byproducts,” “citrus fruits” to “fruit, citrus,” “goats, fat” to “goat, fat,” “goats, mbyp” to “goat, meat byproducts,” “goats, meat” to “goat, meat,” “hogs, fat” to “hog, fat,” “hogs, mbyp” to “hog, meat byproducts,” “hogs, meat” to “hog, meat,” “horses, fat” to “horse, fat,” “horses, mbyp” to “horse, meat byproducts,” “horses, meat” to “horse, meat,” “macadamia nuts” to “nut, macadamia,” “pears” to “pear” “sheep, mbyp” to “sheep, meat byproducts,” and “walnuts” to “walnut” in order to conform to current Agency administrative practice.

8. Phosphamidon. EPA is proposing to revise the tolerance in 40 CFR 180.239 for residues of the insecticide phosphamidon including all of its related cholinesterase-inhibiting compounds in or on apples with an expiration/revocation date of December 31, 2002, to allow any treated commodities to pass through the channels of trade.

EPA proposed to remove the tolerances for phosphamidon on January 21, 1998 (63 FR 3057) (FRL-5743-8). Comments were received from the Washington State Department of Agriculture and Northwest Wholesale, Inc. which requested that EPA not revoke the tolerance for phosphamidon on apples due to concerns about existing stocks. The Agency did not revoke the tolerance for phosphamidon on apples at that time (63 FR 57062, October 26, 1998) (FRL-6035-8). Subsequently, the Agency was informed by the Washington State Department of Agriculture that based on review of the pests controlled by phosphamidon, efficacy of registered alternatives, estimates of remaining stocks of phosphamidon, and use/disposal of remaining unused stocks, retention of the tolerance for phosphamidon on apples until December 31, 2002 would allow growers to use up existing stocks and would be adequate.

Therefore, EPA is proposing to revise the tolerance in 40 CFR 180.239 for residues of phosphamidon including all of its related cholinesterase-inhibiting compounds in or on apples by adding an expiration/revocation date of December 31, 2002. Because the tolerance with its revocation date will continue to appear in future issues of Title 40, EPA is also proposing to revise the commodity name from “apples” to “apple” in order to conform to current Agency administrative practice. After the effective date of the final rule adopting these changes and once the expiration/revocation date of these tolerances has been reached, these tolerances will no longer be effective.

9.S-Propyl dipropylthiocarbamate (vernolate). Because there are no registered uses for S-Propyl dipropylthiocarbamate (vernolate), EPA is proposing to revise the tolerances in 40 CFR 180.240 by adding an expiration/revocation date of May 1, 2002 for S-Propyl dipropylthiocarbamate (vernolate) residues in or on corn, fodder; corn, forage; corn, fresh (inc. sweet)(K+CWHR); corn, grain; peanuts; peanut, forage; peanut, hay; potatoes; soybeans; soybean, forage; soybean, hay; and sweet potatoes. In the March 3, 1999 Federal Register notice of receipt of the request for voluntary cancellation of S-Propyl dipropylthiocarbamate (vernolate), EPA agreed that registrants were permitted to sell and distribute existing stocks of vernolate until February 1, 2000, that distributors were permitted to sell and distribute existing stocks of vernolate until February 1, 2001, and that end users are permitted to use existing stocks until February 1, 2002 (64 FR 10296, March 3, 1999)(FRL-6061-9).

Because the tolerances with a revocation date will continue to appear in future issues of Title 40, commodity terminology changes are proposed to conform with current Agency administrative practice as follows: “corn, fresh (inc. sweet)(K+CWHR)” to “corn, sweet, kernel plus cob with husks removed,” “peanuts” to “peanut,” “potatoes” to “potato,” “soybeans” to “soybean,” and “sweet potatoes” to “sweet potato.” No other commodity name changes are proposed because current Agency practice is to split certain names into two names (e.g. “corn, grain” to “corn, field, grain” and “corn, pop, grain”) and while it would not establish any new tolerances, such a change here could incorrectly be viewed as doing so. Therefore, such name changes are not proposed in order to avoid possible confusion. After the effective date of the final rule adopting these changes and once the expiration/revocation date of these tolerances has been reached, these tolerances will no longer be effective.

10. Trimethacarb. EPA is proposing to revoke the tolerances for residues of the insecticide 3,4,5-Trimethylphenyl methylcarbamate and 2,3,5-Trimethylphenyl methylcarbamate, known as trimethacarb, in or on corn, field, grain; corn, fodder; corn, forage; and corn, pop, grain in 40 CFR 180.305 because trimethacarb is not registered under FIFRA for use on corn. Therefore, the Agency is proposing to remove §180.305 in its entirety.

EPA proposed to revoke the tolerances for trimethacarb on January 21, 1998 (63 FR 3057). A comment on the proposed rule was received from Drexel Chemical Company which requested that EPA not revoke the tolerances for trimethacarb until Drexel determined the state of existing stocks. As a result of that comment, the Agency did not take action on trimethacarb at that time (63 FR 57062, October 26, 1998). Subsequently, the Agency was informed by Drexel that end-users would exhaust existing stocks of trimethacarb by mid-May, 1999. Therefore, the Agency is proposing to revoke §180.305 in its entirety.

B. What is the Agency's Authority for Taking this Action?

A “tolerance” represents the maximum level for residues of pesticide chemicals legally allowed in or on raw agricultural commodities and processed foods. Section 408 of FFDCA, 21 U.S.C. 301 et seq., as amended by the FQPA of 1996, Public Law 104-170, authorizes the establishment of tolerances, exemptions from tolerance requirements, modifications in tolerances, and revocation of tolerances for residues of pesticide chemicals in or on raw agricultural commodities and processed foods. 21 U.S.C. 346(a). Without a tolerance or exemption, food containing pesticide residues is considered to be unsafe and therefore “adulterated” under section 402(a) of the FFDCA. If food containing pesticide residues is considered to be “adulterated,” it may not be distributed in interstate commerce (21 U.S.C. 331(a) and 342(a). For a food-use pesticide to be sold and distributed, the pesticide must not only have appropriate tolerances under the FFDCA, but also must be registered under FIFRA (7 U.S.C. et seq.) Food-use pesticides not registered in the United States have tolerances for residues of pesticides in or on commodities imported into the United States.

It is EPA's general practice to propose revocation of tolerances for residues of pesticide active ingredients on crop uses for which FIFRA registrations no longer exist and the pesticide can no longer be used. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of the FFDCA, a tolerance may only be established or maintained if EPA determines that the tolerance is safe based on a number of factors, including an assessment of the aggregate exposure to the pesticide and of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid these trade-restricting situations, the Agency is proposing to revoke tolerances for uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

C. When do These Actions Become Effective?

EPA proposes that these actions become effective 90 days following publication of a final rule in the Federal Register. In most cases the tolerances proposed to be revoked will expire on the effective date of the final rule, with the exception of the tolerances for carbofuran on rice and rice, straw, which are proposed to expire on August 31, 2002, the 22 tolerances for 6-methyl-1,3-dithiolo[4,5-b]quinoxalin-2-one (oxythioquinox or chinomethionate), which will expire on August 1, 2002, the tolerance for phosphamidon on apples, which is proposed to expire on December 31, 2002, and the 12 tolerances for S-Propyl dipropylthiocarbamate (vernolate), which are proposed to expire on May 1, 2002. EPA is proposing these revocation/expiration dates because EPA believes that by these dates all existing stocks of pesticide products labeled for the uses associated with the tolerances proposed for revocation will have been exhausted, giving ample time for any treated fresh produce to clear trade channels. Therefore, EPA believes the revocation/expiration dates proposed in this document are reasonable. However, if EPA is presented with information that existing stocks would still be available for use after the expiration date and that information is verified, EPA will consider extending the expiration date of the tolerance. If you have comments regarding existing stocks and whether the effective date accounts for these stocks, please submit comments as described under SUPPLEMENTARY INFORMATION.

Any commodities listed in this proposal treated with the pesticides subject to this proposal, and in the channels of trade following the tolerance revocations, shall be subject to FFDCA section 408(1)(5), as established by FQPA. Under this section, any residues of these pesticides in or on such food shall not render the food adulterated so long as it is shown to the satisfaction of FDA that, (1) the residue is present as the result of an application or use of the pesticide at a time and in a manner that was lawful under FIFRA, and (2) the residue does not exceed the level that was authorized at the time of the application or use to be present on the food under a tolerance or exemption from tolerance. Evidence to show that food was lawfully treated may include records that verify the dates that the pesticide was applied to such food.

D. What Is the Contribution to Tolerance Reassessment?

By law, EPA is required to reassess 66% or about 6,400 of the tolerances in existence on August 2, 1996, by August 2002. EPA is also required to assess the remaining tolerances by August, 2006. As of May 31, 2001, EPA has reassessed over 3,630 tolerances. This document proposes to revoke 81 tolerances and/or exemptions. However, since one has been previously reassessed, 80 tolerance/exemption reassessments would be counted toward the August, 2002 review deadline of FFDCA section 408(q), as amended by FQPA in 1996.

III. Are The Proposed Actions Consistent with International Obligations?

The tolerance revocations in this proposal are not discriminatory and are designed to ensure that both domestically-produced and imported foods meet the food safety standards established by the FFDCA. The same food safety standards apply to domestically produced and imported foods.

EPA is working to ensure that the U.S. tolerance reassessment program under FQPA does not disrupt international trade. EPA considers Codex Maximum Residue Limits (MRLs) in setting U.S. tolerances and in reassessing them. MRLs are established by the Codex Committee on Pesticide Residues, a committee within the Codex Alimentarius Commission, an international organization formed to promote the coordination of international food standards. It is EPA's policy to harmonize U.S. tolerances with Codex MRLs to the extent possible, provided that the MRLs achieve the level of protection required under FFDCA. EPA's effort to harmonize with Codex MRLs is summarized in the tolerance reassessment section of individual Reregistration Eligibility Decision documents. The U.S. EPA has developed guidance concerning submissions for import tolerance support (65 FR 35069, June 1, 2000) (FRL-6559-3). This guidance will be made available to interested persons. Electronic copies are available on the internet at http://www.epa.gov/. On the Home Page select “Laws and Regulations,” then select “Regulations and Proposed Rules” and then look up the entry for this document under “Federal Register—Environmental Documents.” You can also go directly to the “Federal Register” listings at http://www.epa.gov/fedrgstr/.

IV. Regulatory Assessment Requirements

In this proposed rule, EPA is proposing to revoke specific tolerances established under FFDCA section 408. The Office of Management and Budget (OMB) has exempted this type of action; i.e., a tolerance revocation for which extraordinary circumstances do not exist, from review under Executive Order 12866, entitled Regulatory Planning and Review (58 FR 51735, October 4, 1993). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations under Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether revocations of tolerances might significantly impact a substantial number of small entities and concluded that, as a general matter, these actions do not impose a significant economic impact on a substantial number of small entities. This analysis was published on December 17, 1997 (62 FR 66020), and was provided to the Chief Counsel for Advocacy of the Small Business Administration. Taking into account this analysis, and available information concerning the pesticides listed in this rule, I certify that this action will not have a significant economic impact on a substantial number of small entities. Specifically, as per the 1997 notice, EPA has reviewed its available data on imports and foreign pesticide usage and concludes that there is a reasonable international supply of food not treated with canceled pesticides. Furthermore, for the pesticides named in this proposed rule, the Agency knows of no extraordinary circumstances that exist as to the present proposed revocations that would change EPA's previous analysis. Any comments about the Agency's determination should be submitted to EPA along with comments on the proposal, and will be addressed prior to issuing a final rule.

In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule directly regulates growers, food processors, food handlers and food retailers, not States. This action does not alter the relationships or distribution of power and responsibilities established by Congress in the preemption provisions of FFDCA section 408(n)(4). For these same reasons, the Agency has determined that this rule does not have any “tribal implications” as described in Executive Order 13175, entitled Consultation and Coordination with Indian Tribal Governments (65 FR 67249, November 6, 2000). Executive Order 13175 requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.” This rule will not have substantial direct effects on tribal governments, on the relationship between the Federal government and Indian tribes, or on the distribution of power and responsibilities between the Federal government and Indian tribes, as specified in Executive Order 13175. Thus, Executive Order 13175 does not apply to this rule.

List of Subjects in 40 CFR Part 180

Environmental protection, Administrative practice and procedure, Agricultural commodities, Pesticides and pests, Reporting and recordkeeping requirements.

Dated: July 18, 2001.
Marcia E. Mulkey,
Director, Office of Pesticide Programs.

Therefore, it is proposed that 40 CFR part 180 be amended as follows:

PART 180—[AMENDED]

1. The authority citation for part 180 continues to read as follows:

Authority: 21 U.S.C. 321(q), 346(a) and 371.

§180.2 [Amended]

2. Section 180.2 is amended by removing the term “fumaric acid,” in paragraph (a).

§180.220 [Amended]

3. Section 180.220 is amended by redesignating paragraph (a)(1) as paragraph (a); removing the “(N)” designation wherever it appears in the “Parts per million” column in the table under newly designated paragraph (a); and by removing paragraph (a)(2).

§180.230 [Removed]

4. Section 180.230 is removed.

5. Section 180.239 is revised to read as follows:

§ 180.239 Phosphamidon; tolerances for residues.

(a) General. Tolerances (expressed as phosphamidon) for residues of the insecticide phosphamidon (2-chloro-2-diethylcarbamoyl-1-methylvinyl dimethyl phosphate) including all of its related cholinesterase-inhibiting compounds in or on raw agricultural commodities are established as follows:

Commodity | Parts per million | Expiration/Revocation Date
Apple | 1.0 | 12/31/02

(b) Section 18 emergency exemptions. [Reserved]

(c) Tolerances with regional registrations. [Reserved]

(d) Indirect or inadvertent residues. [Reserved]

6. Section 180.240 is revised to read as follows:

§ 180.240 Vernolate; tolerances for residues.

(a) General. Tolerances are established for the herbicide vernolate; S-Propyl dipropylthiocarbamate in or on the following raw agricultural commodities:

Commodity | Parts per million | Expiration/Revocation Date
Corn, fodder | 0.1 | 5/1/02
Corn, forage | 0.1 | 5/1/02
Corn, grain | 0.1 | 5/1/02
Corn, sweet, kernel plus cob with husks removed | 0.1 | 5/1/02
Peanut | 0.1 | 5/1/02
Peanut, forage | 0.1 | 5/1/02
Peanut, hay | 0.1 | 5/1/02
Potato | 0.1 | 5/1/02
Soybean | 0.1 | 5/1/02
Soybean, forage | 0.1 | 5/1/02
Soybean, hay | 0.1 | 5/1/02
Sweet potato | 0.1 | 5/1/02

(b) Section 18 emergency exemptions. [Reserved]

(c) Tolerances with regional registrations. [Reserved]

(d) Indirect or inadvertent residues. [Reserved]

§180.241 [Amended]

7. Section 180.241 is amended by removing the word “cottonseed,”.

8. In §180.254, paragraph (a) is amended by adding a third column titled “Expiration/Revocation Date.” to the table, by adding the word “None” in the new third column for all entries except “Rice” and “Rice straw.” and by revising the entries for “Rice” and “Rice straw” to read as follows:

§ 180.254 Carbofuran; tolerances for residues.

(a) General. * * *

Commodity | Parts per million | Expiration/Revocation Date
* * * * *
Rice | 0.2 | 8/31/02
Rice, straw (of which no more than 0.2 ppm is carbamates) | 1.0 | 8/31/02
* * * * *

* * * * *

§180.305 [Removed]

9. Section 180.305 is removed.

10. Section 180.338 is revised to read as follows:

§ 180.338 6-Methyl-1,3-dithiolo[4,5-b]quinoxalin-2-one; tolerances for residues.

(a) General. Tolerances are established for residues of the fungicide and insecticide 6-methyl-1,3-dithiolo[4,5-b]quinoxalin-2-one in or on raw agricultural commodities as follows:

Commodity | Parts per million | Expiration/Revocation Date
Apple | 0.05 | 8/1/02
Apricot | 0.02 | 8/1/02
Cattle, fat | 0.05 | 8/1/02
Cattle, meat | 0.05 | 8/1/02
Cattle, meat byproducts | 0.05 | 8/1/02
Fruit, citrus | 0.5 | 8/1/02
Goat, fat | 0.05 | 8/1/02
Goat, meat | 0.05 | 8/1/02
Goat, meat byproducts | 0.05 | 8/1/02
Hog, fat | 0.05 | 8/1/02
Hog, meat | 0.05 | 8/1/02
Hog, meat byproducts | 0.05 | 8/1/02
Horse, fat | 0.05 | 8/1/02
Horse, meat | 0.05 | 8/1/02
Horse, meat byproducts | 0.05 | 8/1/02
Milk | 0.01 | 8/1/02
Nut, macadamia | 0.1 | 8/1/02
Pear | 0.05 | 8/1/02
Sheep, fat | 0.05 | 8/1/02
Sheep, meat | 0.05 | 8/1/02
Sheep, meat byproducts | 0.05 | 8/1/02
Walnut | 0.1 | 8/1/02

(b) Section 18 emergency exemptions. [Reserved]

(c) Tolerances with regional registrations. [Reserved]

(d) Indirect or inadvertent residues. [Reserved]

§180.413 [Amended]

11. Section 180.413 is amended by removing the entry for “cottonseed” from the table in paragraph (a)(1).

§180.1001 [Amended]

12. Section 180.1001 is amended by removing the entry for “fumaric acid-isophthalic acid-styrene-ethylene/propylene glycol copolymer (minimum average molecular weight (in amu) 1 x 10¹⁸)” from the table in paragraph (d).

[FR Doc. 01-19176 Filed 7-31-01; 8:45 am]

BILLING CODE 6560-50-S